Proclamation 10047 of May 29, 2020

National Homeownership Month, 2020

By the President of the United States of America

A Proclamation

For generations, homeownership has sustained and empowered Americans. Recently, we have been reminded that our homes are central to our health, our independence, and the well-being of our families. In response to the coronavirus outbreak, millions of Americans have transformed their homes into safe havens, virtual workplaces, classrooms, and, most importantly, places to nurture hopes and dreams for the future. During National Homeownership Month, we acknowledge the many benefits of secure and affordable homeownership.

Thanks to my Administration's swift and decisive action to assist millions of homeowners affected by the coronavirus, we have protected the wealth that hardworking Americans have built up through homeownership. To help ensure that homeowners do not lose their homes unnecessarily due to this crisis, I signed into law the unprecedented Coronavirus Aid, Relief, and Economic Security (CARES) Act. This legislation provided direct cash payments to Americans and authorized mortgage-payment relief for eligible homeowners with federally backed mortgages struggling to make their payments.

As our Nation's economy begins to recover, my Administration remains focused on getting government out of the way of responsible homeownership and reforming our housing finance system. We have supported affordable homeownership by eliminating outdated and unnecessary regulations, and we are strengthening investment in underserved communities through the designation of Opportunity Zones. Through the work of the White House Council on Eliminating Regulatory Barriers to Affordable Housing, we are continuing to collaborate with States and local jurisdictions to ease the burden of regulations that needlessly hinder opportunities for Americans to become homeowners. Additionally, last year, the Department of the Treasury and the Department of Housing and Urban Development released plans to define the limited role of the Federal Government in the housing finance system, enhance taxpayer protections against future bailouts, and promote competition in the housing finance system.

This month, we renew our commitment to helping pave the way for more Americans to achieve the financial benefits and stability of homeownership. Building on the roaring success we were experiencing prior to the coronavirus pandemic, our economy will rebound and create the jobs that Americans need to achieve the American dream of owning a home.

NOW, THEREFORE, I, DONALD J. TRUMP, President of the United States of America, by virtue of the authority vested in me by the Constitution and the laws of the United States, do hereby proclaim June 2020 as National Homeownership Month.

IN WITNESS WHEREOF, I have hereunto set my hand this twenty-ninth day of May, in the year of our Lord two thousand twenty, and of the Independence of the United States of America the two hundred and forty-fourth.

[FR Doc. 2020-12421

Filed 6-4-20; 11:15 am]

Billing code 3295-F0-P